INTERNATIONAL TRADE COMMISSION

[Investigation No. 701-TA-741 (Final)]

Paper File Folders From Cambodia; Determination

On the basis of the record ¹ developed in the subject investigation, the United States International Trade Commission (“Commission”) determines, pursuant to the Tariff Act of 1930 (“the Act”), that an industry in the United States is materially injured by reason of imports of paper file folders from Cambodia, provided for in subheading 4820.30.00 of the Harmonized Tariff Schedule of the United States, that have been found by the U.S. Department of Commerce (“Commerce”) to be subsidized by the government of Cambodia.²

¹ The record is defined in § 207.2(f) of the Commission's Rules of Practice and Procedure (19 CFR 207.2(f)).

² 90 FR 60631, December 29, 2025.

Background

The Commission instituted this investigation effective October 21, 2024, following receipt of petitions filed with the Commission and Commerce by the Coalition of Domestic Folder Manufacturers, Hastings, Minnesota, and Naperville, Illinois, alleging that an industry in the United States is materially injured and threatened with material injury by reason of subsidized and less-than-fair-value (“LTFV”) imports of paper file folders from Cambodia and LTFV imports of paper file folders from Sri Lanka. The Commission scheduled the final phase of its investigations following notification of preliminary affirmative determinations by Commerce that imports of paper file folders from Cambodia were being subsidized by the government of Cambodia and imports of paper file folders from Sri Lanka were being sold at LTFV, and of a preliminary negative determination by Commerce that imports of paper file folders from Cambodia were not being sold at LTFV within the meaning of sections 703(b) and 733(b) of the Act (19 U.S.C. 1671b(b) and 1673b(b)). Notice of the scheduling of the final phase of the Commission's investigations and of a public hearing to be held in connection therewith was given by posting copies of the notice in the Office of the Secretary, U.S. International Trade Commission, Washington, DC, and by publishing the notice in the Federal Register (90 FR 23708, June 4, 2025). Following a request by counsel for the Coalition of Domestic Folder Manufacturers to cancel the scheduled hearing and absent other requests to appear at the hearing, the public hearing scheduled in connection with these investigations was cancelled (90 FR 37886, August 6, 2025).

The investigation schedules became staggered when Commerce did not align its antidumping and countervailing duty investigations concerning paper file folders from Cambodia with its antidumping duty investigation concerning paper file folders from Sri Lanka, and reached an earlier final antidumping determination in the investigation concerning Sri Lanka. On September 22, 2025, the Commission issued a final affirmative determination in its antidumping duty investigation on paper file folders from Sri Lanka (90 FR 45961, September 24, 2025). On December 29, 2025, Commerce issued a final negative determination in its antidumping duty investigation on paper file folders from Cambodia (90 FR 60612, December 29, 2025), after which the Commission terminated its antidumping investigation concerning paper file folders from Cambodia, effective December 29, 2025 (91 FR 380, January 6, 2026). Following notification on December 29, 2025 of a final affirmative determination by Commerce that imports of paper file folders from Cambodia were being subsidized by the government of Cambodia within the meaning of section 705(b) of the Act (19 U.S.C. 1671d(b)) (90 FR 60631, December 29, 2025),³ notice of the supplemental scheduling of the final phase of the Commission's countervailing duty investigation was given by posting copies of the notice in the Office of the Secretary, U.S. International Trade Commission, Washington, DC, and by publishing the notice in the Federal Register of January 6, 2026 (91 FR 381, January 6, 2026).

³ Due to the lapse in appropriations and ensuing cessation of government operations, Commerce tolled its deadlines for its final antidumping and countervailing duty determinations concerning paper file folders from Cambodia.

The Commission made this determination pursuant to section 705(b) of the Act (19 U.S.C. 1671d(b)). It completed and filed its determination in this investigation on February 12, 2026. The views of the Commission are contained in USITC Publication 5700 (February 2026), entitled Paper File Folders from Cambodia: Investigation No. 701-TA-741 (Final).

By order of the Commission.
Issued: February 12, 2026.
Lisa Barton,
Secretary to the Commission.

[FR Doc. 2026-03104 Filed 2-17-26; 8:45 am]

BILLING CODE 7020-02-P